DEPARTMENT OF VETERANS AFFAIRS

[OMB Control No. 2900-0041]

Agency Information Collection Activity: Compliance Inspection Report

AGENCY: Veterans Benefits Administration, Department of Veterans Affairs.

ACTION: 30-Day notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0041.

FOR FURTHER INFORMATION CONTACT: Danny S. Green, (202) 421-1354 or email Danny.Green2@va.gov. Please refer to “OMB Control No. 2900-0041” in any correspondence.

SUPPLEMENTARY INFORMATION: Authority: Public Law 104-13; 44 U.S.C. 3501-21.

Title: Compliance Inspection Report (VA Form 26-1839).

OMB Control Number: 2900-0041.

Type of Review: Extension of an approved collection.

Abstract: Fee-compliance inspectors complete VA Form 26-1839 during their inspection on properties under construction. The inspections provide a level of protection to Veterans by assuring them and VA that the adaptation is in compliance with the plans and specifications for which a specially adapted housing grant is based.

An agency may not conduct or sponsor, and a person is not required to respond to a collection of information unless it displays a currently valid OMB control number. The Federal Register Notice with a 60-day comment period soliciting comments on this collection of information was published March 6, 2020 at 85 FR 13237, pages 13237-13238.

Affected Public: Individuals or households.

Estimated Annual Burden: 900 hours.

Estimated Average Burden per Respondent: 15 minutes.

Frequency of Response: One time.

Estimated Number of Respondents: 3,600.

By direction of the Secretary:
Danny S. Green,
VA PRA Clearance Officer, Office of Quality, Performance and Risk, Department of Veterans Affairs.

[FR Doc. 2020-10222 Filed 5-12-20; 8:45 am]

BILLING CODE 8320-01-P